NATIONAL SCIENCE FOUNDATION

National Science Board; Sunshine Act Meetings; Impromptu Notice of Change (Addition of Agenda Item)

The National Science Board's (NSB) Task Force on Merit Review (MR), pursuant to NSF regulations (45 CFR part 614), the NSF Act, as amended (42 U.S.C. 1862n-5), and the Government in the Sunshine Act (5 U.S.C. 552b), hereby gives notice of an Impromptu Change in regard to the addition of an agenda item to the MR teleconference meeting scheduled for April 25, 2011 at 1 p.m., as follows:

ORIGINAL DATE AND TIME: No change.

SUBJECT MATTER (agenda item added): Briefing by Carl Wieman, OSTP.

STATUS: No change.

LOCATION: No change.

BASIS FOR ADDING THE AGENDA ITEM AND VOTE: In accordance with 5 U.S.C. 552b (e), on April 20, 2011 a majority of the Executive Committee of the NSB voted to add this agenda item to the NSB's MR teleconference meeting scheduled for April 25, 2011 at 1 p.m. The Executive Committee found that agency business requires the addition of this agenda item and that no earlier announcement was possible. Board Members Drs. Bowen, Gulari, Galloway, Benbow and Suresh participated in the vote through an e-mail polling of the Executive Committee.

UPDATES & POINT OF CONTACT: Please refer to the National Science Board Web site http://www.nsf.gov/nsb for additional information and schedule updates (time, place, subject matter or status of meeting) may be found at http://www.nsf.gov/nsb/notices/. Point of contact for this meeting is: Kim Silverman, National Science Board Office, 4201 Wilson Blvd., Arlington, VA 22230. Telephone: (703) 292-7000.

Daniel A. Lauretano,
Counsel to the National Science Board.

[FR Doc. 2011-9974 Filed 4-20-11; 4:15 pm]

BILLING CODE 7555-01-P